NUCLEAR REGULATORY COMMISSION

[Docket Nos. 50-369-OLA, 50-370-OLA, 50-413-OLA, and 50-414-OLA; ASLBP No. 03-815-03-OLA]

Duke Energy Corporation, McGuire Nuclear Station, Units 1 and 2, Catawba Nuclear Station, Units 1 and 2; Establishment of Atomic Safety and Licensing Board

Pursuant to delegation by the Commission dated December 29, 1972, published in the Federal Register, 37 FR 28,710 (1972), and sections 2.105, 2.700, 2.702, 2.714, 2.714a, 2.717, 2.721, and 2.772(j) of the Commission's Regulations, all as amended, an Atomic Safety and Licensing Board is being established to preside over the following proceeding: Duke Energy Corporation, McGuire Nuclear Station, Units 1 and 2, Catawba Nuclear Station, Units 1 and 2.

This Board is being established pursuant to a notice of consideration of issuance of an operating license amendment and opportunity for a hearing published in the Federal Register (68 FR 44,107 (July 25, 2003)). The proceeding involves petitions for intervention submitted on August 21, and August 25, 2003, respectively, by the Nuclear Information and Resource Service and the Blue Ridge Environmental Defense League challenging a request by Duke Energy Corporation to amend its operating licenses for the McGuire Nuclear Station, Units 1 and 2, and Catawba Nuclear Station, Units 1 and 2, near Charlotte, North Carolina. The amendment would change certain facility technical specifications to allow the use of four mixed oxide (MOX) lead assemblies at either the Catawba or McGuire plants.

The Board is comprised of the following administrative judges: Administrative Judge Ann Marshall Young, Chair, Atomic Safety and Licensing Board Panel, U.S. Nuclear Regulatory Commission, Washington, DC 20555-0001; Administrative Judge Anthony J. Baratta, Atomic Safety and Licensing Board Panel, U.S. Nuclear Regulatory Commission, Washington, DC 20555-0001; Administrative Judge Thomas S. Elleman, Atomic Safety and Licensing Board Panel, U.S. Nuclear Regulatory Commission, Washington, DC 20555-0001.

All correspondence, documents, and other materials shall be filed with the administrative judges in accordance with 10 CFR 2.701.

Issued at Rockville, Maryland, this 17th day of September, 2003.
G. Paul Bollwerk, III,
Chief Administrative Judge, Atomic Safety and Licensing Board Panel.

[FR Doc. 03-24209 Filed 9-24-03; 8:45 am]

BILLING CODE 7590-01-P